LEGAL SERVICES CORPORATION

Notice of Availability of 2022 Disaster Supplemental Project and Incurred Costs Grants

AGENCY: Legal Services Corporation.

ACTION: Notice.

SUMMARY: The Legal Services Corporation (LSC) issues this Notice describing the application and award process for up to $19,000,000 in grants to support the delivery of legal services related to the consequences of hurricanes, flooding, wildfires, severe storms, and other extreme weather that occurred in calendar year 2022.

DATES: On or before May 1, 2023, by 11:59 p.m. (Eastern Time) all Pre-Applications must be complete and submitted through the LSC grants management system GrantEase. LSC requires Pre-Applications for all 2022 Disaster Supplemental Appropriation Project and Incurred Costs. LSC will not consider Pre-Applications submitted after the deadline.

ADDRESSES: Pre-applications for 2022 Disaster Supplemental Project and Incurred Costs Grants must be submitted through LSC's grants management system GrantEase. LSC will not accept hard-copy applications. Instructions for using GrantEase and submitting the necessary materials will be available at www.lsc.gov/disastergrants on or before March 30, 2022.

FOR FURTHER INFORMATION CONTACT: We strongly encourage you to email LSC's Disaster Team at LSCdisastergrants@lsc.gov for technical assistance while completing your Pre-Application. Instructions and other information will be available in the Notice of Funds Availability at www.lsc.gov/disastergrants. Technical assistance meetings will be held prior to the deadlines for all interested applicants. Questions about this notice can be directed to Mark Freedman, Senior Associate General Counsel, at 202-295-1623.

SUPPLEMENTARY INFORMATION: LSC will have $19,000,000 available for 2022 Disaster Supplemental Appropriation grants to support delivery of legal services related to the consequences of hurricanes, flooding, wildfires, severe storms, and other extreme weather that occurred during calendar year 2022. Grant awards for these funds will begin in July of 2023. LSC has created a list of eligible disasters and posted it at www.lsc.gov/disastergrants. The eligible disasters list includes all areas covered by the Federal Emergency Management Agency's (FEMA) Major Disaster Declarations that include Individual Assistance and/or Public Assistance. LSC relies on data from FEMA's website. See https://www.fema.gov/disaster/declarations.

LSC Disaster Project Grants include a new opportunity this year. Any LSC Grantee, regardless of whether they have an eligible disaster in their service area, that has extensive experience in disaster response and preparation may apply for a Project Grant to provide mentorship and collaboration services to other 2022 Disaster Supplemental Appropriations Grantees.

LSC will award two types of grants under the 2022 Disaster Supplemental Appropriation funding opportunity: Project Grants and Incurred Costs Grants. Applicants are encouraged to apply for both Project and Incurred Costs grants, if applicable.

(1) Project Grants are available to for up to a 36-month term starting July 1, 2023.

(2) Incurred Costs Grants are available to reimburse grantees for costs incurred prior to July 1, 2023 (including estimated incurred costs through June 30, 2023).

Applicants can apply for any grant amount above $25,000. There is no cap amount on the funds an eligible applicant can request for grants that are within the total funding available.

Eligible Applicants

Applicants must be current LSC grantees receiving Basic Field—General, Basic Field—Agricultural Worker, or Basic Field—Native American funding.

In addition, any LSC Grantee, regardless of whether they have an eligible disaster in their service area, that has extensive experience in disaster response and preparation may apply for a Project Grant to provide mentorship and collaboration services to other 2022 Disaster Supplemental Appropriations Grantees.

Organizations and entities that are not current LSC grantees are not eligible to apply directly to LSC for these grants. Nonetheless, collaborations between LSC grantees and project partner organizations can strengthen disaster delivery systems and avoid duplication of services and are therefore encouraged.

If you are unsure if your organization is eligible to apply or have questions about the eligible disasters list, please contact the LSC Disaster Team at LSCdisastergrants@lsc.gov.

Eligible Activities and Expenses

Applicants are permitted to use Project and Incurred Costs Grant funds for any activities and expenses that are allowable pursuant to the LSC Act if they are related to the consequences of hurricanes, flooding, wildfires, severe storms, and other extreme weather that occurred in the calendar year 2022.

Funds from these grants cannot be used for disaster preparedness activities for future disasters, except insofar as funded activities undertaken to respond to the listed disasters will also have continuing value in preparing for and responding to future disasters.

In addition to hiring and supporting staff, eligible activities can include, but are not limited to, the leasing of new office space in an area hard-hit by a disaster and adjacent to survivors with legal needs related to the disaster, purchasing office equipment and supplies, hiring a project or grant manager, or hiring of other administrative support staff—if the activities and expenses are related to the consequences of eligible disasters.

Before submitting an application involving a subgrant or third-party contract with grant funds, applicants should be familiar with LSC's subgrant and contracting requirements at 45 CFR parts 1627 (Subgrants) and 1630 (Cost Standards), particularly as they pertain to paying third-parties to conduct programmatic activities. Certain contracts and all subgrants require prior approval under 45 CFR parts 1627 (Subgrants) and 1630 (Cost Standards). Applicants must also consider arrangements with other organizations as part of their compliance with the program integrity requirements of 45 CFR 1610.8.

LSC issues this notice pursuant to 42 U.S.C. 2996g(e).

Dated: March 15, 2023.
Mark F. Freedman,
Senior Associate General Counsel.

[FR Doc. 2023-05626 Filed 3-17-23; 8:45 am]

BILLING CODE 7050-01-P